FEDERAL COMMUNICATIONS COMMISSION

[OMB 3060-0537; FR ID 262655]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments should be submitted on or before January 24, 2025. If you anticipate that you will be submitting comments but find it difficult to do so within the period of time allowed by this notice, you should advise the contacts below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control No.: 3060-0537.

Title: Sections 13.9(c), 13.13(c), 13.17(b), 13.211(e) and 13.217, Commercial Operator License Examination Managers (COLEM) Records.

Form No.: N/A.

Type of Review: Extension of a currently approved collection.

Respondents: Business or other for profit entities, not-for-profit institutions, and State, local, or tribal government.

Number of Respondents and Responses: 3,742 respondents and 3,742 responses.

Estimated Time per Response: 0.44 hours to 30 hours.

Frequency of Response: Recordkeeping requirement and on occasion reporting requirement.

Obligation to Respond: Required to obtain or retain benefits. The statutory authority for this collection 47 U.S.C. 154 and 303 of the Communications Act of 1934.

Total Annual Burden: 19,132 hours.

Annual Cost Burden: No cost.

Needs and Uses: The Commission will submit this expiring information collection after this comment period to obtain the full, three-year clearance from the Office of Management and Budget (OMB). The Commission is requesting approval for a three-year extension. The rule sections approved under this collection are 47 CFR 13.9, 13.13, 13.17, 13.211, and 13.217. If this information collection requirement was not kept or fulfilled, it is conceivable that examinees could be overcharged, and that fraud and deceit could be used for unjust enrichment of the examiners.

Federal Communications Commission.
Marlene Dortch,
Secretary, Office of the Secretary.

[FR Doc. 2024-27558 Filed 11-22-24; 8:45 am]

BILLING CODE 6712-01-P